DEPARTMENT OF HEALTH AND HUMAN SERVICES

Health Resources and Services Administration

HRSA AIDS Advisory Committee; Notice of Meeting

In accordance with section 10(a)(2) of the Federal Advisory Committee Act (Public Law 92-463), announcement is made of the following National Advisory body scheduled to meet during the month of February 2001.

Name: HRSA AIDS Advisory Committee (HAAC).

Date and Time: February 8, 2001; 8:30 a.m.—5:00 p.m., February 9, 2001; 8:30 a.m.—1:30 p.m.

Place: Four Points Sheraton Bethesda, 8400 Wisconsin Avenue, Bethesda, Maryland 20814, Telephone: (301) 941-2704.

The meeting is open to the public.

Agenda: Agenda items for the meeting include reauthorization implementation update of the Ryan White CARE Act, program updates, and discussion of HIV prevention and care linkages.

Anyone requiring further information should contact Joan Holloway, HIV/AIDS Bureau, Parklawn Building, Room 7-13, 5600 Fishers Lane, Rockville, Maryland 20857, telephone (301) 443-5761.

Dated: December 21, 2000.
Jane Harrison,
Director, Division of Policy Review and Coordination.

[FR Doc. 00-33088 Filed 12-27-00; 8:45 am]

BILLING CODE 4160-15-P